DEPARTMENT OF COMMERCE

International Trade Administration

Antidumping or Countervailing Duty Order, Finding, or Suspended Investigation; Opportunity To Request Administrative Review and Join Annual Inquiry Service List; Correction

AGENCY: Enforcement and Compliance, International Trade Administration, Department of Commerce.

ACTION: Notice; correction.

SUMMARY: The U.S. Department of Commerce (Commerce) published notice in the Federal Register of January 2, 2025, in which Commerce announced the opportunity to request administrative reviews of orders, findings, or suspended investigations with anniversary dates during the month of January. This notice did not list the correct case name for the antidumping duty order on carbon and alloy steel wire rod from the Russian Federation (Russia).

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

On January 2, 2025, Commerce published in the Federal Register, Antidumping or Countervailing Duty Order, Finding, or Suspended Investigation; Opportunity To Request Administrative Review and Join Annual Inquiry Service List.¹ We inadvertently did not list the correct case name for the antidumping duty order on carbon and alloy steel wire rod from Russia.

¹ See Antidumping or Countervailing Duty Order, Finding, or Suspended Investigation; Opportunity To Request Administrative Review and Join Annual Inquiry Service List, 90 FR 71 (January 2, 2025) (“Opportunity Notice”).

Correction

In the Federal Register of January 2, 2025, in FR Doc. 2024-31481, on page 72, in the table, under the heading titled, “Antidumping Duty Proceedings”, correct the entry for RUSSIA as follows:

RUSSIA: Carbon and Alloy Steel Wire Rod, A-821-824

Notification to Interested Parties

The Opportunity Notice is not required by statute but is published as a service to the international trading community. Not later than 30 days after the date of publication of this correction notice, interested parties may request administrative review of the antidumping duty order on Carbon and Alloy Steel Wire Rod from Russa for the period 1/1/2024-12/31/2024.

Dated: April 2, 2025.
Scot Fullerton,
Acting Deputy Assistant Secretary for Antidumping and Countervailing Duty Operations.

[FR Doc. 2025-05951 Filed 4-7-25; 8:45 am]

BILLING CODE 3510-DS-P